DEPARTMENT OF COMMERCE

Foreign-Trade Zones Board

[Docket B-37-2012]

Foreign-Trade Zone 126—Reno, NV, Withdrawal of Production Notification, Brightpoint North America L.P. (Cell Phone Kitting and Distribution), Reno, NV

Notice is hereby given of the withdrawal of the notification of the Economic Development Authority of Western Nevada, grantee of FTZ 126, requesting production authority on behalf of Brightpoint North America L.P. in Reno, Nevada. Initial notice of the notification was given on May 16, 2012 (77 FR 28851).

The case has been closed without prejudice.

Dated: September 21, 2012.
Andrew McGilvray,
Executive Secretary.

[FR Doc. 2012-23823 Filed 9-26-12; 8:45 am]

BILLING CODE P